DEPARTMENT OF HOMELAND SECURITY

Office of the Secretary

[Docket No. DHS-2009-0040]

Privacy Act of 1974; Department of Homeland Security/ALL—027 The History of the Department of Homeland Security System of Records

AGENCY: Privacy Office, DHS.

ACTION: Notice of Privacy Act system of records.

SUMMARY: In accordance with the Privacy Act of 1974 the Department of Homeland Security proposes to update and reissue a Department-wide system of records notice titled, Department of Homeland Security-2004-0004 Oral History Program: The History of the Department of Homeland Security System of Records. The updated system of records is being renamed Department of Homeland Security/ALL-027 The History of the Department of Homeland Security System of Records and will consist of information that is created and used by the Department's Historian, and component historians. As a result of the biennial review of this system, updates have been made reflecting a new name to better describe records covered; added system classification of classified, sensitive, and unclassified information; system location to reflect the move of the History Office from the Office of Public Affairs to the Office of Policy; expanded categories of individuals and the categories of records covered by the system to include those used by components, as the Department proposes that this be a Department-wide system; routine uses to better reflect the needs of the History Office including sharing with appropriate agencies, entities, and persons when there is a compromise or risk to the system (Routine Use D), to federal, state, tribal, local, international, or foreign law enforcement agency or other appropriate authority charged with investigating or prosecuting a violation or enforcing or implementing a law, rule, regulation, or order (Routine Use F), to audiences attending a particular event, location, or meeting where the history of the Department is exhibited or presented (Routine Use I), and to scholars (historians and other disciplines) or any other interested individuals for research in writing dissertations, articles, books, and other documents for government, commercial, and nonprofit publication or developing material for other media use (Routine Use J); storage, retrievability and safeguards to reflect changes made by the Office transfer; retention and disposal to manage new records added to the system as the Department proposes that this be a Department-wide system; record source categories to reflect that individuals who are interviewed for records must sign and are provided a notice under the Privacy Act pursuant to 5 U.S.C. 552a; and added exemptions necessary for records within the Department's history files, that will be reviewed, on a case by case basis, for exemption from the Privacy Act. The system will allow the Department's Historian, and component historians, to store and retrieve information pertaining to Department employees and former employees, including political appointees, civilian and military personnel assigned or detailed to the Department, individuals who are formally or informally associated with the Department, including advisory committee members, employees of other agencies and departments in the federal government, and other individuals in the private and public sector who contribute to the history of the Department. This updated system will be included in the Department of Homeland Security's inventory of record systems.

DATES: Submit comments on or before March 25, 2010. This reissued system will be effective March 25, 2010.

ADDRESSES: You may submit comments, identified by docket number [DHS-2009-0040] by one of the following methods:

• Federal e-Rulemaking Portal: http://www.regulations.gov. Follow the instructions for submitting comments.

• Fax: 703-483-2999.

• Mail: Mary Ellen Callahan, Chief Privacy Officer, Privacy Office, Department of Homeland Security, Washington, DC 20528.

• Instructions: All submissions received must include the agency name and docket number for this rulemaking. All comments received will be posted without change to http://www.regulations.gov, including any personal information provided.

• Docket: For access to the docket to read background documents or comments received go to http://www.regulations.gov.

FOR FURTHER INFORMATION CONTACT: For general questions please contact: Historian (202-282-8682), History Office, Office of Policy, U.S. Department of Homeland Security, Washington, DC 20528. For privacy issues please contact: Mary Ellen Callahan (703-235-0780), Chief Privacy Officer, Privacy Office, U.S. Department of Homeland Security, Washington, DC 20528.

SUPPLEMENTARY INFORMATION:

I. Background

The Department of Homeland Security (DHS) and its components and offices rely on the Privacy Act system of records notice, DHS-2004-0004 Oral History Program: The History of the Department of Homeland Security System of Records (69 FR 56781, September 22, 2004) for the collection and maintenance of records that concern the Department's history records. The system name is being changed to DHS/ALL-027 The History of the Department of Homeland Security System of Records.

As part of its efforts to maintain its Privacy Act records systems, DHS is updating and reissuing a Department-wide system of records under the Privacy Act (5 U.S.C. 552a) for DHS history records. This will ensure that all components of DHS follow the same privacy rules for collecting and handling history records. The collection and maintenance of this information will assist DHS in managing the Department's history records in order to promote an accurate and complete portrayal of DHS history.

The History Office was established to record, collect, preserve, describe, analyze, publish, and disseminate the history of the Department. Initially established within the Office of Public Affairs, the History Office has since been transferred to the Office of Policy, and serves with the support of the components, in developing a complete history of the Department.

The purpose of this system is to collect historically relevant information about the Department to support policy, initiatives, announcements, public releases of information, as well as to inform current and future leadership, employees, and the public about the history of the Department. DHS is authorized to implement this program primarily through 5 U.S.C. 301 and 44 U.S.C. 3101. This system has an effect on individuals' privacy that is balanced by the notice provided to the individual during an oral interview, while completing historical questionnaires, or when providing information. This information is needed to accurately capture and maintain the Department's history. Information is safeguarded in accordance with applicable rules and policies, including all applicable DHS automated systems security and access policies. Strict controls have been imposed to minimize the risk of compromising the information that is stored. Information within this system is shared consistent with 5 U.S.C. 552a(b) of the Privacy Act and the compatibility requirements outlined in 5 U.S.C. 552a(7). Routine uses added during this biennial review are sharing with appropriate agencies, entities, and persons when there is a compromise or risk to the system (Routine Use D), to federal, state, tribal, local, international, or foreign law enforcement agency or other appropriate authority charged with investigating or prosecuting a violation or enforcing or implementing a law, rule, regulation, or order (Routine Use F); to audiences attending a particular event, location, or meeting where the history of the Department is exhibited or presented (Routine Use I); and to scholars (historians and other disciplines) or any other interested individuals for research in writing dissertations, articles, books, and other documents for government, commercial, and nonprofit publication or developing material for other media use (Routine Use J). All remaining routine uses are as previously published. This system does use a form(s) to collect information. An inventory of forms is being conducted to ensure that appropriate Privacy Act notices are in place and that the Paperwork Reduction Act is being honored.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR Part 5.

The Privacy Act requires each agency to publish in the Federal Register a description denoting the type and character of each system of records that the agency maintains, and the routine uses that are contained in each system in order to make agency record keeping practices transparent, to notify individuals regarding the uses to which their records are put, and to assist individuals to more easily find such files within the agency. Below is the description of the DHS/ALL-027 The History of the Department of Homeland Security System of Records.

In accordance with 5 U.S.C. 552a(r), DHS has provided a report of this system of records to the Office of Management and Budget and to Congress.

System of Records:

DHS/ALL-027

System name:

Department of Homeland Security—The History of the Department of Homeland Security System of Records.

Security classification:

Classified, sensitive, and unclassified.

System location:

Records are maintained at Department of Homeland Security headquarters (History Office, Office of Policy) as well as component headquarters in Washington, DC, and field locations.

Categories of individuals covered by the system:

Categories of individuals covered by this system include: Current and former federal employees, including political appointees, civilian, contractor, and military personnel assigned or detailed to the Department. Also, covered by this system are individuals who are formally or informally associated with the Department, including advisory committee members, employees of other agencies and departments in the federal government, and other individuals in the private and public sector who contribute to the history of the Department.

Categories of records in the system:

Categories of records in this system include:

• Individuals or interviewees full name;

• Individuals or interviewees provided address;

• Individuals or interviewees provided phone number(s);

• Individuals or interviewees provided e-mail address;

• Occupational background and position(s);

• Public speeches and articles by an individual;

• Public and internal correspondence, interviews, press releases and announcements, and various other tapes and transcripts of Departmental activities;

• Photographs;

• Biographical information;

• Interview records on magnetic tape or other electronic format;

• Transcriptions from written and oral interviews and discussions;

• Access agreements; and

• Interviewee accounts and recollections of experiences at component legacy agencies; the events of September 11, 2001; the establishment of the Department and its predecessor the Office of Homeland Security; the history of the Department including legacy components; major issues facing the Department; and the future of the Department.

Authority for maintenance of the system:

5 U.S.C. 301; and 44 U.S.C. 3101.

Purpose(s):

The purpose of this system is to collect historically relevant information about the Department to support policy, initiatives, announcements, public releases of information, as well as to inform current and future leadership, employees, and the public about the history of the Department.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (including United States Attorney Offices) or other federal agency conducting litigation or in proceedings before any court, adjudicative or administrative body, when it is necessary to the litigation and one of the following is a party to the litigation or has an interest in such litigation:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other federal government agencies pursuant to records management inspections being conducted under the authority of 44 U.S.C. 2904 and 2906.

D. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individuals that rely upon the compromised information; and

3. The disclosure made to such agencies, entities, and persons is reasonably necessary to assist in connection with DHS's efforts to respond to the suspected or confirmed compromise and prevent, minimize, or remedy such harm.

E. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

F. To an appropriate federal, state, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

G. To the Government Printing Office or other publishing offices for production of a final document.

H. To the National Archives and other government or public libraries in order to respond to inquiries about DHS.

I. To audiences attending a particular event, location, or meeting where the history of the Department is exhibited or presented.

J. To scholars (historians and other disciplines) or any other interested individuals for research in writing dissertations, articles, books, and other documents for government, commercial, and nonprofit publication or developing material for other media use.

K. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by name, subject, employment position, or event.

Safeguards:

Records in this system are safeguarded in accordance with applicable rules and policies, including all applicable DHS automated systems security and access policies. Strict controls have been imposed to minimize the risk of compromising the information that is stored. Access to the computer system containing the records in this system is limited to those individuals who have a need to know the information for the performance of their official duties and who have appropriate clearances or permissions.

Retention and disposal:

Records relating to background material are temporary, to be destroyed when no longer needed for administrative purposes, or ten years after the completion of the project. Records for the Headquarters History Office Project Files and Oral History Program are permanent in accordance with National Archives and Records Administration through approved schedule N1-563-07-3.

System Manager and address:

Historian (202-282-8682), History Office, Office of Policy, U.S. Department of Homeland Security, Washington, DC 20528.

Notification procedure:

Individuals seeking notification of and access to any record contained in this system of records, or seeking to contest its content, may submit a request in writing to the Headquarters' or component's FOIA Officer, whose contact information can be found at http://www.dhs.gov/foia under “contacts.” If an individual believes more than one component maintains Privacy Act records concerning him or her, the individual may submit the request to the Chief Privacy Officer and Chief Freedom of Information Act Officer, Department of Homeland Security, 245 Murray Drive, SW., Building 410, STOP-0550, Washington, DC 20528.

When seeking records about yourself from this system of records or any other Departmental system of records, your request must conform with the Privacy Act regulations set forth in 6 CFR Part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov or 1-866-431-0486. In addition you should provide the following:

• An explanation of why you believe the Department would have information on you;

• Identify which component(s) of the Department you believe may have the information about you;

• Specify when you believe the records would have been created;

• Provide any other information that will help the FOIA staff determine which DHS component agency may have responsive records; and

• If your request is seeking records pertaining to another living individual, you must include a statement from that individual certifying his/her agreement for you to access his/her records.

Without this bulleted information the component(s) may not be able to conduct an effective search, and your request may be denied due to lack of specificity or lack of compliance with applicable regulations.

Record access procedures:

See “Notification procedure” above.

Contesting record procedures:

See “Notification procedure” above.

Record source categories:

Individuals, interviewees, press releases, newspapers, journals, copies of internal Department records, and individuals submit records on a voluntary basis to the History Offices. Individuals who are interviewed for records must sign and are provided a notice under the Privacy Act pursuant to 5 U.S.C. 552a.

Exemptions claimed for the system:

The Secretary of Homeland Security has exempted this system from the following provisions of the Privacy Act, subject to the limitations set forth in (c)(3) and (4); (d); (e)(1), (e)(2), (e)(3), (e)(5), and (e)(8); and (g) of the Privacy Act pursuant to 5 U.S.C. 552a(j)(2). Additionally, the Secretary of Homeland Security has exempted this system from the following provisions of the Privacy Act, subject to the limitations set forth in (c)(3), (d), (e)(1), (e)(4)(G), (H), (I), and (f) of the Privacy Act pursuant to 5 U.S.C. 552a(k)(1), (k)(2), (k)(3), and (k)(5).

Dated: February 1, 2010.
Mary Ellen Callahan,
Chief Privacy Officer, Department of Homeland Security.

[FR Doc. 2010-3402 Filed 2-22-10; 8:45 am]

BILLING CODE 9110-9M-P